DEPARTMENT OF ENERGY

Federal Energy Regulatory Commission

Combined Notice of Filings #1

Take notice that the Commission received the following electric corporate filings:

Docket Numbers: EC22-90-000.

Applicants: Centrica Business Solutions Optimize, LLC, Enerwise Global Technologies, LLC.

Description: Application for Authorization Under Section 203 of the Federal Power Act of Centrica Business Solutions Optimize, LLC.

Filed Date: 7/13/22.

Accession Number: 20220713-5211.

Comment Date: 5 p.m. ET 8/3/22.

Take notice that the Commission received the following electric rate filings:

Docket Numbers: ER22-2008-000.

Applicants: SEPV Sierra, LLC.

Description: Amendment to June 1, 2022 SEPV Sierra, LLC submits tariff filing per 35.1: Market-Based Rate Application to be effective 6/2/2022.

Filed Date: 7/7/22.

Accession Number: 20220707-5209.

Comment Date: 5 p.m. ET 7/18/22.

Docket Numbers: ER22-2141-000.

Applicants: Sun Mountain Solar 1, LLC.

Description: Supplement to June 17, 2022 Sun Mountain Solar 1, LLC tariff filing.

Filed Date: 7/5/22.

Accession Number: 20220705-5209.

Comment Date: 5 p.m. ET 7/19/22.

Docket Numbers: ER22-2376-000.

Applicants: New York Independent System Operator, Inc., Power Authority of the State of New York.

Description: § 205(d) Rate Filing: New York Independent System Operator, Inc. submits tariff filing per 35.13(a)(2)(iii: Joint NYISO-NYPA 205 LGIA for Excelsior Energy Center Project SA No. 2689—CEII to be effective 6/29/2022.

Filed Date: 7/14/22.

Accession Number: 20220714-5081.

Comment Date: 5 p.m. ET 8/4/22.

Docket Numbers: ER22-2377-000.

Applicants: Black Hills Colorado Electric, LLC.

Description: Compliance filing: Order No. 864 Compliance Filing to be effective 9/1/2022.

Filed Date: 7/14/22.

Accession Number: 20220714-5094.

Comment Date: 5 p.m. ET 8/4/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 14, 2022.
Debbie-Anne A. Reese,
Deputy Secretary.

[FR Doc. 2022-15480 Filed 7-19-22; 8:45 am]

BILLING CODE 6717-01-P